DEPARTMENT OF COMMERCE

Foreign-Trade Zones Board

[S-224-2024]

Approval of Subzone Status; Cummins Inc.; Irvine, Pennsylvania

On December 20, 2024, the Executive Secretary of the Foreign-Trade Zones (FTZ) Board docketed an application submitted by the Erie-Western Pennsylvania Port Authority, grantee of FTZ 247, requesting subzone status subject to the existing activation limit of FTZ 247, on behalf of Cummins Inc., in Irvine, Pennsylvania.

The application was processed in accordance with the FTZ Act and Regulations, including notice in the Federal Register inviting public comment (89 FR 106423, December 30, 2024). The FTZ staff examiner reviewed the application and determined that it meets the criteria for approval. Pursuant to the authority delegated to the FTZ Board Executive Secretary (15 CFR 400.36(f)), the application to establish Subzone 247D was approved on March 13, 2025, subject to the FTZ Act and the Board's regulations, including section 400.13, and further subject to FTZ's 530-acre activation limit.

Dated: March 13, 2025.
Elizabeth Whiteman,
Executive Secretary.

[FR Doc. 2025-04527 Filed 3-18-25; 8:45 am]

BILLING CODE 3510-DS-P